DEPARTMENT OF THE INTERIOR

Bureau of Land Management

[CA-930-1430-ET; CA 13314]

Public Land Order No. 7601; Revocation of Public Land Order No. 6369; California

AGENCY: Bureau of Land Management, Interior.

ACTION: Public land order.

SUMMARY: This order revokes, in its entirety, a Public Land Order which withdrew islands, reefs, rocks, and pinnacles off the coast of California from surface entry, mining, and mineral leasing, for establishment of the California Islands Wildlife Sanctuary. The lands are located within the California Coastal National Monument which is withdrawn from mining and all forms of disposition other than exchange by Presidential Proclamation No. 7264.

DATES: Effective Date: May 7, 2004.

FOR FURTHER INFORMATION CONTACT: Nancy Alex, BLM California State Office, 2800 Cottage Way, Sacramento, California 95825, 916-978-4674.

SUPPLEMENTARY INFORMATION: Since the land is withdrawn by Presidential Proclamation, this revocation is a record clearing action only.

Order

By virtue of the authority vested in the Secretary of the Interior by section 204 of the Federal Land Policy and Management Act of 1976, 43 U.S.C. 1714 (2000), it is ordered as follows:

Public Land Order No. 6369 (48 FR 16684, April 19, 1983), which withdrew islands, reefs, rocks, and pinnacles off the coast of California from surface entry, mining, and mineral leasing for establishment of the California Islands Wildlife Sanctuary, is hereby revoked in its entirety.

Dated: April 21, 2004.
Rebecca W. Watson,
Assistant Secretary—Land and Minerals Management.

[FR Doc. 04-10434 Filed 5-6-04; 8:45 am]

BILLING CODE 4310-40-P